SECURITIES AND EXCHANGE COMMISSION

[Release No. IC-35820A; File No. 812-15840]

Oxford Square Capital Corp., et al. (Oxford Square Capital Corp., et al.); Correction

December 15, 2025

AGENCY: Securities and Exchange Commission.

ACTION: Notice; correction.

SUMMARY: The Securities and Exchange Commission published a document in the Federal Register on December 15, 2025, concerning Oxford Square Capital Corp., et al. The document contained a typographical error.

FOR FURTHER INFORMATION CONTACT: Donna M. Willingham, Securities and Exchange Commission, 100 F Street NE, Washington, DC 20549, (202) 551-5400.

Correction

In the Federal Register of December 15, 2025, in FR Doc. 2025-22805, at 90 FR 58067, in the third column, under the heading “HEARING OR NOTIFICATION OF A HEARING:” correct the reference to “January 5, 2025” instead to “January 5, 2026.”

Sherry R. Haywood,
Assistant Secretary.

[FR Doc. 2025-23126 Filed 12-16-25; 8:45 am]

BILLING CODE P